DEPARTMENT OF STATE

[Public Notice 7157]

Culturally Significant Objects Imported for Exhibition Determinations: “Miró: The Dutch Interiors”

ACTION: Notice, correction.

SUMMARY: On August 11, 2010, notice was published on page 48736 of the Federal Register (volume 75, number 154) of determination made by the Department of State pertaining to the exhibit ”Miró: The Dutch Interiors.” The reference notice is corrected to accommodate an additional object to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the additional object to be included in the exhibition “Miró: The Dutch Interiors,” imported from abroad for temporary exhibition within the United States, is of cultural significance. The additional object is imported pursuant to a loan agreement with the foreign owner or custodian. I also determine that the exhibition or display of the additional exhibit object at The Metropolitan Museum of Art, New York, NY, from on or about October 4, 2010, until on or about January 17, 2011, and at possible additional exhibitions or venues yet to be determined, is in the national interest. I have ordered that Public Notice of these Determinations be published in the Federal Register.

FOR FURTHER INFORMATION CONTACT: For further information, including a list of the additional exhibit object, contact Julie Simpson, Attorney-Adviser, Office of the Legal Adviser, U.S. Department of State (telephone: 202-632-6467). The mailing address is U.S. Department of State, SA-5, L/PD, Fifth Floor (Suite 5H03), Washington, DC 20522-0505.

Dated: September 1, 2010.
Ann Stock,
Assistant Secretary, Bureau of Educational and Cultural Affairs, Department of State.

[FR Doc. 2010-22358 Filed 9-7-10; 8:45 am]

BILLING CODE 4710-05-P